FEDERAL COMMUNICATIONS COMMISSION

Radio Broadcasting Services; AM or FM Proposals to Change the Community of License

AGENCY: Federal Communications Commission.

ACTION: Notice.

SUMMARY: The following applicants filed AM or FM proposals to change the community of license: Alexandria Communications, INC, BP-20070223AGP, Station KUJ, Facility ID 35718, From Walla Walla, WA, To Finley, WA; Appaloosa Broadcasting Company, INC., BPH-20070131ADT, Station KIMX, Facility ID 82007, From Laramie, WY, To Nunn, CO; Bartholomew, Steven R, BNPH-20070226AAN, Station NEW, Facility ID 169897, From Outlook, MT, To South Heart, ND; Cameron Broadcasting CO, BPH-20070301ABS, Station KNVR, Facility ID 84381, From Cameron, TX, To Thrall, TX; Deer Creek Broadcasting, LLC, BPH-20070126ADB, Station KHHZ, Facility ID 50709, From Oroville, CA, To Gridley, CA; Educational Media Foundation, BNPH-20070221AAP, Station NEW, Facility ID 170184, From Meyersdale, PA, To Confluence, PA; Flinn Jr., George S, BNPH-20070201BQE, Station NEW, Facility ID 170182, From Cedar Key, FL, To Homosassa, FL; Huron Broadcasting, LLC, BPH-20070214ABU, Station KZLA, Facility ID 86866, From Huron, CA, To Riverdale, CA; Indiana Community Radio Corporation, BPH-20070212AAX, Station WRFM, Facility ID 122333, From Wadesville, IN, To Smith Mills, KY; James Falcon, BNPH-20050103ABC, Station NEW, Facility ID 164190, From EDEN, TX, To Grape Creek, TX; MTD, INC, BPH-20070228AAG, Station KNMB, Facility ID 87766, From Cloudcroft, NM, To Capitan, NM; Oregon Eagle, Inc., BPH-20070125ADO, Station KTIL-FM, Facility ID 82538, From Tillamook, OR, To Government Camp, OR; Radio Layne, LLC, BMPH-20070305AAG, Station NEW, Facility ID 164234, From King Salmon, AK, To Port Lions, AK; Results Radio Of Chico Licensee, LLC, BPH-20070126ACY, Station KMJE, Facility ID 52516, From Gridley, CA, To Woodland, CA; Shamrock Communications, INC., BNPH-20070226AER, Station NEW, Facility ID 170180, From Tecopa, CA, To Amargosa Valley, NV; Sheila Callahan And Friends, INC., BMPH-20061204AEU, Station KDXT, Facility ID 166089, From Victor, MT, To Lolo, MT; Sierra Broadcasting Corporation, BPH-20070226ABI, Station KJDX, Facility ID 60300, From Susanville, CA, To Pollock Pines, CA; Ssr Communications, INC., BPH-20070222ABD, Station WYAB, Facility ID 77646, From Benton, MS, To FLORA, MS; Summit Media Broadcasting, LLC, BPH-20070226AAM, Station WKQV, Facility ID 164254, From Richwood, WV, To Cowen, WV; Tower Investment Trust, INC., BNPH-20070223AHO, Station NEW, Facility ID 170178, From Ocracoke, NC, To Pine Knoll Shores, NC.

DATES: Comments may be filed through May 29, 2007.

ADDRESSES: Federal Communications Commission, 445 Twelfth Street, SW., Washington, DC 20554.

FOR FURTHER INFORMATION CONTACT: Tung Bui, 202-418-2700.

SUPPLEMENTARY INFORMATION: The full text of these applications are available for inspection and copying during normal business hours in the Commission's Reference Center, 445 12th Street, SW., Washington, DC 20554 or electronically via Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC, 20554, telephone 1-800-378-3160 or http://www.BCPIWEB.com.

Federal Communications Commission.
James D. Bradshaw,
Deputy Chief, Audio Division, Media Bureau.

[FR Doc. E7-5441 Filed 3-27-07; 8:45 am]

BILLING CODE 6712-01-P